DEPARTMENT OF THE TREASURY

Office of the Comptroller of the Currency

[OCC Charter Number 702849]

Elberton Federal Savings and Loan Association, Elberton, Georgia; Approval of Conversion Application

Notice is hereby given that on May 9, 2023, the Office of the Comptroller of the Currency (OCC) approved the application of Elberton Federal Savings and Loan Association, Elberton, Georgia, to convert to the stock form of organization. Copies of the application are available on the OCC website at the FOIA Reading Room (https://foia-pal.occ.gov/palMain.aspx) under Mutual to Stock Conversion Applications. If you have any questions, please contact Licensing Activities at (202) 649-6260.

(Authority: 12 CFR 192.205.)

Dated: May 9, 2023.
By the Office of the Comptroller of the Currency.
Stephen A. Lybarger,
Deputy Comptroller for Licensing.

[FR Doc. 2023-10361 Filed 5-15-23; 8:45 am]

BILLING CODE 4810-33-P